DEPARTMENT OF DEFENSE

Department of the Air Force

[Docket ID: USAF-2011-0022]

Privacy Act of 1974; System of Records

AGENCY: Department of the Air Force, Department of Defense (DoD).

ACTION: Notice to Add a System of Records.

SUMMARY: The Department of the Air Force proposes to add a system of records to its inventory of record systems subject to the Privacy Act of 1974 (5 U.S.C. 552a), as amended.

DATES: The proposed action will be effective on October 3, 2011 unless comments are received that would result in a contrary determination.

ADDRESSES: You may submit comments, identified by docket number and title, by any of the following methods:

• Federal Rulemaking Portal: http://www.regulations.gov.

Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/XCPPI, 1800 Air Force Pentagon, Washington, DC 20330-1800, or by phone at 703-696-6488.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on August 29, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: August 29, 2011.
Aaron Siegel,
Alternate OSD Federal Register Liaison Officer, Department of Defense.

F023 AF AFMC B

System Name:

Air Force Combat Logistics Support System.

System Location:

Defense Information Systems Agency Montgomery, 401 East Moore Drive, Building 857, Maxwell-AFB, Gunter Annex, Montgomery, AL 36114-3001.

Categories of individuals covered by the system:

Air Force government civilians, vendors doing business with the U.S. Air Force, Air Force active duty military personnel, Air Force reserve personnel, and Air National Guard personnel.

Categories of records in the system:

First name, last name, middle name, title, suffix, job series, job title, position, grade/step, supervisor's name, job address, organization, work e-mail address, work hours, hire date, pay grade, duty location, employee status, gender, certifications, qualification completeness status, qualification start and end date, qualification awarded date, qualification license number, qualification license restrictions, qualification license expiration date, Electronic Data Interchange Personal Identifier (EDIPI) also known as the DoD Identification Number, Control Air Force Specialty Code (AFSC), company name, bank routing number, bank account number, accrual account number, Government Purchase Card (GPC)/IMPAC card numbers, Taxpayer ID, and Employee Labor Rates.

Authority for the maintenance of the system:

5 U.S.C. 301, Departmental regulations; 5 U.S.C. 5531, Definitions; 5 U.S.C. 5533, Dual pay from more than one position; limitations, exceptions; 5 U.S.C., Part III, Subpart D. Chapter 53, Subchapter III, Section 5335, Periodic step increases; 5 U.S.C. 6311, Regulations; Public Law 104-134, Debt Collection Improvement Act of 1996; and DoD Financial Management Regulation 7000.14-R, Vol 4, Accounting Policy and Procedures.

Purpose(s):

Enhances logistics supportability for Air Force organizations across the globe through an integrated data system by supporting functions ranging from base maintenance and supply through depot planning, supply and maintenance. It modernizes Air Force Logistics support from depot planning and repair activities to the flightline maintenance and supply activities, and includes financial management for working capital and general funds management.

Routine uses of records maintained in the system including categories of users and the purposes of such use:

In addition to those disclosures generally permitted under Title 5 U.S.C. 552a(b) of the Privacy Act of 1974, these records contained therein may specifically be disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Electronic storage media.

Retrievability:

By Name and Electronic Data Interchange Personal Identifier (EDIPI) also known as the DoD Identification Number.

Safeguards:

Data is maintained in a controlled facility. Physical entry is restricted by the use of locks, guards, and is accessible only to authorized personnel. Records are protected by standard Air Force access authentication procedures and by network system security software. Records are accessed by person(s) responsible for servicing the record system in performance of their official duties, and by authorized personnel who are properly screened and cleared for need-to-know. All access is based upon role-based logons using the individual's Common Access Card (CAC) to login to the system. User's level of access is restricted by their role within the organization.

Retention and disposal:

Delete records when superseded, obsolete, or no when longer needed, whichever is later.

Transaction records may be temporary in nature and deleted when actions are completed, superseded, obsolete, or when no longer needed.

Other transaction records may be cut off at the completion of the contract or payment and destroyed 6 years and 3 months after cutoff.

Destroy electronic records by overwriting or degaussing.

System manager and address:

Program Executive Officer and Director, Expeditionary Combat Support System (ECSS) and Logistics IT Systems (IL), Air Force Materiel Command (AFMC), 754 Electronic Systems Group/Enterprise Capabilities (ELSG), Building 262, Room N006, 4375 Chidlaw Road, Wright-Patterson Air Force Base, Ohio 45433-5006.

Notification procedures:

Individuals seeking to determine whether information about themselves is contained in this system of records should address written inquiries to Program Executive Officer and Director, Expeditionary Combat Support System (ECSS) and Logistics IT Systems (IL), Air Force Materiel Command (AFMC), 754 Electronic Systems Group/Enterprise Capabilities (ELSG), Building 262, Room N006, 4375 Chidlaw Road, Wright-Patterson Air Force Base, OH 45433-5006.

For verification purposes, individual should provide their full name, any details which may assist in locating records, and their signature.

In addition, the requester must provide a notarized statement or an unsworn declaration made in accordance with 29 U.S.C. 1746, in the following format:

If executed outside the United States:

“I declare (or certify, verify, or state) under penalty of perjury under the laws of the United States of America that the foregoing is true and correct. Executed on (date). (Signature)”

If executed within the United States, its territories, possessions, or commonwealths: “I declare (or certify, verify, or state) under penalty of perjury that the foregoing is true and correct. Executed on (date). (Signature)”

Record access procedures:

Individuals seeking to determine whether this system of records contains information about themselves should address written inquiries to Program Executive Officer and Director, Expeditionary Combat Support System (ECSS) and Logistics IT Systems (IL), Air Force Materiel Command (AFMC), 754 Electronic Systems Group/Enterprise Capabilities (ELSG), Building 262, Room N006, 4375 Chidlaw Road, Wright-Patterson Air Force Base, OH 45433-5006.

For verification purposes, individual should provide their full name, any details which may assist in locating records, and their signature.

In addition, the requester must provide a notarized statement or an unsworn declaration made in accordance with 29 U.S.C. 1746, in the following format:

If executed outside the United States:

“I declare (or certify, verify, or state) under penalty of perjury under the laws of the United States of America that the foregoing is true and correct. Executed on (date). (Signature)”

If executed within the United States, its territories, possessions, or commonwealths: “I declare (or certify, verify, or state) under penalty of perjury that the foregoing is true and correct. Executed on (date). (Signature)”

Contesting records procedures:

The Air Force rules for accessing records and for contesting contents and appealing initial agency determinations are published in 32 CFR part 806b, Air Force Instruction 33-332, Air Force Privacy Program and may be obtained from the system manager.

Record source categories:

Information is obtained from automated system interfaces or from other source documents.

Exemptions claimed for the system:

None.

[FR Doc. 2011-22482 Filed 9-1-11; 8:45 am]

BILLING CODE 5001-06-P